DEPARTMENT OF COMMERCE

National Institute of Standards and Technology

Submission for OMB Review; Comment Request

The Department of Commerce will submit to the Office of Management and Budget (OMB) for clearance the following proposal for collection of information under the provisions of the Paperwork Reduction Act (44 U.S.C. Chapter 35).

Agency: Baldrige Performance Excellence Program (BPEP)/National Institute of Standards and Technology (NIST).

Title: Malcolm Baldrige National Quality Award (MBNQA) Application.

OMB Control Number: 0693-0006.

Form Number(s): None.

Type of Request: Revision and extension of a current information collection.

Number of Respondents: ~30 organizations apply for the MBNQA; ~550 individuals apply for a spot on the MBNQA Board of Examiners, the assessors who review the applications for the MBNQA.

Average Hours per Response: 30 minutes for organizational applications for MBNQA, and 30 minutes for applications for the Board of Examiners.

Burden Hours: MBNQA = 15 hours, Board of Examiners = 275 hours.

Needs and Uses: Collection needed to obtain information to conduct the MBNQA (Pub. L. 100-107, Malcolm Baldrige National Quality Improvement Act of 1987).

Affected Public: Business, health care, education, or other for-profit organizations; health care, education, and other nonprofit organizations; and individuals or households.

Frequency: Annual.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-12554 Filed 6-13-19; 8:45 am]

BILLING CODE 3510-13-P